DEPARTMENT OF ENERGY

Federal Energy Regulatory Commission

[Docket No. CP19-51-000]

Columbia Gas Transmission, LLC; Notice of Schedule for Environmental Review of the VNG Suffolk No. 3 Meter Station Expansion Project

On January 17, 2019, Columbia Gas Transmission, LLC (Columbia) filed an application in Docket No. CP19-51-000 requesting a Certificate of Public Convenience and Necessity pursuant to Sections 7(b) and 7(c) of the Natural Gas Act to abandon, construct, and operate certain natural gas facilities. The proposed project is known as the VNG Suffolk No. 3 Meter Station Expansion Project (Project) in Suffolk, Virginia, which would increase the current maximum daily delivery obligations of natural gas from 3.73 million cubic feet to 12 million cubic feet per day between various delivery points on Columbia's system in southeastern Virginia.

On January 31, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA May 17, 2019

90-day Federal Authorization Decision Deadline August 15, 2019

If a schedule change becomes necessary, additional notice will be provided so that the relevant agencies are kept informed of the Project's progress.

Project Description

Columbia proposes to install new meter station facilities to replace its existing facilities at the VNG Suffolk No. 3 Meter Station (MS-831056). Columbia would design the proposed facilities for a maximum allowable operating pressure of 600 pounds per square inch gauge, which is consistent with the supply pressure of Columbia's existing VM-107 and VM-108 pipeline system. Upon completion of the new meter station facilities, Columbia would abandon the existing meter station.

Background

On February 28, 2019, the Commission issued a Notice of Intent to Prepare an Environmental Assessment for the VNG Suffolk No. 3 Meter Station Expansion Project and Request for Comments on Environmental Issues (NOI). The NOI was sent to affected landowners; federal, state, and local government agencies; elected officials; environmental and public interest groups; Native American tribes; other interested parties; and local libraries. In response to the NOI, the Commission received comments from the Virginia Department of Environmental Quality (DEQ) and the United States Environmental Protection Agency (EPA). The Virginia DEQ letter provided a summary of the agency's role in National Environmental Policy Act project scoping and agency involvement, document submission instructions, and information on database assistance. The EPA letter outlined issues and impacts to be addressed in the EA. All substantive comments will be addressed in the EA; however, the Commission has received no additional comments to date.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional Information About the Project is Available From the Commission's Office of External Affairs at (866) 208-FERC or on the FERC website (www.ferc.gov). Using the eLibrary link, select General Search from the eLibrary menu, enter the selected date range and Docket Number excluding the last three digits (i.e., CP19-51), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 28, 2019.
Nathaniel J. Davis, Sr.,
Deputy Secretary.

[FR Doc. 2019-06459 Filed 4-2-19; 8:45 am]

BILLING CODE 6717-01-P